FEDERAL COMMUNICATIONS COMMISSION

47 CFR Part 73

[DA 04-264, MB Docket No. 03-193, RM-10768]

Digital Television Broadcast Service; Hobbs, NM

AGENCY: Federal Communications Commission.

ACTION: Final rule.

SUMMARY: The Commission, at the request of Eastern New Mexico University, allots DTV channel *47 to Hobbs, New Mexico, as the community's first noncommercial television allotment. See 68 FR 54408, September 17, 2003. DTV channel *47 can be allotted to Hobbs, New Mexico, in compliance with sections 73.623(d) and 73.625(a) of the Commission's Rules at coordinates 32-45-20 N. and 103-11-09 W. With this action, this proceeding is terminated.

DATES: Effective March 22, 2004.

FOR FURTHER INFORMATION CONTACT: Pam Blumenthal, Media Bureau, (202) 418-1600.

SUPPLEMENTARY INFORMATION: This is a synopsis of the Commission's Report and Order, MB Docket No. 03-193, adopted February 3, 2004, and released February 6, 2004. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under New Mexico, is amended by adding DTV channel *47 at Hobbs.

Federal Communications Commission.
Barbara A. Kreisman,
Chief, Video Division, Media Bureau.

[FR Doc. 04-3962 Filed 2-23-04; 8:45 am]

BILLING CODE 6712-01-P